DEPARTMENT OF STATE

[Public Notice: 12791]

Notice of Receipt of Request from the Government of the Republic of Cameroon Under Article 9 of the 1970 UNESCO Convention on the Means of Prohibiting and Preventing the Illicit Import, Export and Transfer of Ownership of Cultural Property

ACTION: Notice.

SUMMARY: Notice of request from Cameroon for cultural property protection.

FOR FURTHER INFORMATION CONTACT: Evan Binkley, Cultural Heritage Center, Bureau of Educational and Cultural Affairs: (202) 632-9459; culprop@state.gov; include “Cameroon” in the subject line.

SUPPLEMENTARY INFORMATION: The Government of the Republic of Cameroon submitted a request to the Government of the United States on July 29, 2024, under Article 9 of the 1970 UNESCO Convention on the Means of Prohibiting and Preventing the Illicit Import, Export and Transfer of Ownership of Cultural Property. Cameroon's request seeks U.S. import restrictions on archaeological and ethnological materials representing Cameroon's cultural patrimony. The Cultural Heritage Center website will provide instructions for public comment and additional information on the request, including categories of material that may be included in import restrictions: https://www.state.gov/cultural-property-advisory-committee-meeting-september-15-17-2025.

This notice is published pursuant to authority vested in the Acting Assistant Secretary of State for Educational and Cultural Affairs and pursuant to 19 U.S.C. 2602(f)(1).

Virginia R. Herrmann,
Alternate Designated Federal Officer, Cultural Property Advisory Committee, Bureau of Educational and Cultural Affairs, Department of State.

[FR Doc. 2025-15018 Filed 8-6-25; 8:45 am]

BILLING CODE 4710-05-P